DEPARTMENT OF COMMERCE

Bureau of Industry and Security

Action Affecting Export Privileges; Yaudat Mustaffa Talyi, a.k.a. Joseph Talyi, and International Business Services, Ltd. and Top Oil Tools, Ltd.

In the matter of Yaudat Mustafa Talyi, a.k.a. Joseph Talyi, 888 Cross Gates Boulevard, Slidell, Louisiana 70458, and International Business Services, Ltd. 700 Gause Boulevard, Suite 304, Slidell, Louisiana 70458, and 41 Chamale Cove East, Slidell, Louisiana 70460, and 2301 Covington Highway 190, Slidell, Louisiana 70460, Respondents, and Top Oil Tools, Ltd., 41 Chamale Cove East, Slidell, Louisiana 70460, related person.

Renewal of Order Temporarily Denying Export Privileges

Through the Office of Export Enforcement (“OEE”), the Bureau of Industry and Security (“BIS”), U.S. Department of Commerce, has requested that I renew an order issued on September 30, 2002, pursuant to § 766.24 of the Export Administration Regulations (currently codified at 15 CFR parts 730-774(2002)) (“EAR”),¹ temporarily denying all U.S. export privileges of Yaudat Mustafa Talyi, a.k.a. Joseph Talyi, 800 Cross Gates Boulevard, Slidell, Louisiana 70458 (“Talyi”), and International Business Services, Ltd., 700 Gause Boulevard, Suite 304, Slidell, Louisiana 70458, 41 Chamale Cove East, Slidell, Louisiana 70460, and 2301 Covington Highway 190, Slidell, Louisiana 70460, (“IBS”). BIS has also requested, pursuant to §§ 766.24(c) and 766.23 of the EAR, that I continue the temporary denial order (“TDO”) as to the following person who is related to IBS and Talyi: Top Oil Tools, Ltd., 41 Chamale Cove East, Slidell, Louisiana 70460. BIS states in its request that, based upon evidence previously adduced that was the basis for the issuance of the September 30, 2003, TDO and evidence developed since that time, it believes that Talyi, acting through his company IBS, has continued to export and participate in the attempted export of items in violation of the TDO in such a manner that suggests a likelihood that violations will occur again absent a renewal of the TDO. Specifically, the evidence indicates that after the TDO was issued on September 30, 2002, Talyi attempted to violate the terms of the TDO by attempting to engage in an export transaction and making it as one in which he played no role. See BIS's Request for TDO Renewal dated March 10, 2003, at 3-5 (“BIS's Request”). In fact, Talyi ordered and purchased the items, had them shipped to the business address of IBS, and attempted to conceal the items in a shipment of personal effects from a local gas station owned by his brother to his sister in the United Arab Emirates. See id; see also BIS's Response dated March 26, 2003, at 3-4 (“BIS's Response”). The evidence also establishes that on at least three occasions after the TDO was issued, Talyi attempted to convince a Louisiana oil field equipment broker to coordinate and manage exports of oil field parts on Talyi's behalf. See BIS's Request at 5-7; see also e-mails from Talyi to George Fortenberry dated Oct. 22, 2002, Nov. 11, 2002; and Dec. 13, 2002. Finally, BIS's evidence revealed an additional illegal export of oil field equipment in October of 2001. See id. at 7; see also BIS's Response at 4-5.

¹ From August 21, 1994 through November 12, 2000, the Act was in lapse. During that period, the President, through Executive order 12924, which has been extended by successive Presidential Notices, the last of which was August 3, 2000 (3 CFR, 2000 Com. 397 (2001)), continued the EAR in effect under the International Emergency Economic Powers Act (50 U.S.C. 1701-1701 (2000)) (“IEEPA”). On November 13, 2000, the Act was reauthorized and it remained in effect through August 20, 2001. Since August 21, 2001, the Act has been in lapse and the President, through Executive Order 13222 of August 17, 2001 (3 CFR, 2001 Comp. 783 (2002)), as extended by the notice of August 14, 2002 (67 FR 53721 (August 16, 2002)), has continued the EAR in effect under IEEPA.

OEE established when the TDO was issued on September 30, 2002, that Top Oil Tools, Ltd., 41 Chamale Cove East, Slidell, Louisiana 70460, is related by its ownership, control, affiliation, and connection with Talyi and IBS such that it should be considered a related person under the terms of this order. See BIS's Request at 8; see also Articles of Incorporation of Top Oil Tools dated Dec. 10, 1999. Top Oil Tools, Ltd. is a business owned and operated by Talyi, it is located at the same address, and it has participated in some of the transactions in this matter. See id. This relationship continues to exist. See Certificate of Incorporation of Top Oil Tools from Louisiana Secretary of State dated Jan. 7, 2003. Consequently, it is necessary to continue to name Top Oil Tools, Ltd. as a person related to Talyi and IBS in order to prevent evasion of the terms and conditions of this order.

On March 24, 2003, an attorney representing Talyi filed a timely opposition to OEE's request that I renew the TDO. See letter from Frank G. DeSalvo to Lisa A. Prager dated March 24, 2003. that opposition questioned the weight of OEE's evidence that Talyi had violated the TDO and that Talyi has participated in a illegal export of oil field equipment in October 2001. See id. Talyi's opposition was terse, conclusory, and presented no evidence to rebut the need for a renewal of the TDO. See id.

In light of the evidence cited above, OEE's investigation demonstrates that Talyi, through his company IBS, has committed or attempted to commit repeated violations of U.S. export control laws, including the EAR and the TDO, that such violations have been deliberate and covert, and that, given the nature of the items shipped, future such violations could go undetected. In addition, a renewal of the TDO is needed to give notice to companies in the United States and abroad that they should cease dealing with Talyi or IBS in export transactions involving U.S.-origin items. such a TDO is clearly consistent with the public interest to preclude future violations of the EAR.

Accordingly, I am renewing this order because I have concluded that a TDO continues to be necessary, in the public interest, to prevent an imminent violation of the EAR.

It is therefore ordered: First, that Yaudat Mustafa Talyi, a.k.a. Joseph Talyi, 888 Cross Gates Boulevard, Slidell, Louisiana 70458 (“Talyi”), and International Business Services, Ltd., 700 Gause Boulevard, Suite 304, Slidell, Louisiana 70458, 41 Chamale Cove East, Slidell, Louisiana 70460, and 2301 Covington Highway 190, Slidell, Louisiana 70460 (“IBS”) (hereinafter collectively referred to as the “denied persons”); and the following person subject to the Order by its relationship to the denied person, Top Oil Tools, Ltd., 41 Chamale Cove East, Slidell, Louisiana 70460 (the “related person”) (together, the denied persons and the related person are “persons subject to this Order”) may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise serving in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of a person subject to this Order any item subject to the EAR;

B. Take any action that facilitates the acquisition or attempted acquisition by a person subject to this order of the ownership, possession, or control of any item subject to the EAR that has been or will be exported from the United States, including financing or other support activities related to a transaction whereby a person subject to this order acquires or attempts to acquire such ownership, possession or control;

C. Take any action to acquire from or to facilitate the acquisition or attempted acquisition from a person subject to this order of any item subject to the EAR that has been exported from the United States.

D. Obtain from a person subject to this order in the Untied States any item subject to the EAR with knowledge or reason to know that the item will be, or is intended to be, exported from the United States; or

E. Engage in any transaction to service any item subject to the EAR that has been or will be exported from the United States and which is owned, possessed or controlled by a person subject to this order, or service any item, of whatever origin, that is owned, possessed or controlled by a person subject to this order is such service involves the use of any item subject to the EAR that has been or will be exported from the United States. For purposes of this paragraph, servicing means installation, maintenance, repair, modification or testing.

Third, that, in addition to the related person named above, after notice and opportunity for comment as provided in section 766.23 of the EAR, any other person, firm, corporation, or business organization related to the denied person by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of § 766.24(e) of the EAR, denied persons may, at any time, appeal this Order by filing a full written statement in support of the appeal with the Office of the Administrative Law Judge, U.S. Coast Guard ALJ Docketing Center, 40 South Gay Street, Baltimore, Maryland 21202-4022. A related person may appeal to the Administrative Law Judge at the aforementioned address in accordance with the provisions of § 766.23(c) of the EAR.

This Order is effective immediately upon expiration of the order issued on September 30, 2002, or March 29, 2003, and shall remain in effect for 180 days.

In accordance with the provisions of § 766.24(d) of the EAR, BIS may seek renewal of this Order by filing a written request not later than 20 days before the expiration date. Talyi or IBS may oppose a request to renew this Order by filing a written submission with the Assistant Secretary for Export Enforcement, which must be received not later than seven days before the expiration date of the Order.

A copy of this Order shall be served on Talyi, IBS, and Top Oil Tools, Ltd., and shall be published in the Federal Register

Entered this 26th day of March, 2003.
Lisa A. Prager,
Acting Assistant Secretary for Export Enforcement.

[FR Doc. 03-7858 Filed 4-1-03; 8:45 am]

BILLING CODE 3510-DT-M